ENVIRONMENTAL PROTECTION AGENCY

40 CFR Part 52

[CA-314-0483; FRL-7945-4]

Approval and Promulgation of State Implementation Plans for Air Quality Planning Purposes; California—South Coast and Coachella

AGENCY: Environmental Protection Agency (EPA).

ACTION: Proposed rule.

SUMMARY: EPA is proposing to approve state implementation plan (SIP) revisions submitted by the State of California to provide for attainment of the particulate matter (PM-10) national ambient air quality standards (NAAQS) in the Los Angeles-South Coast Air Basin and the Coachella Valley Area, and to establish emissions budgets for these areas for purposes of transportation conformity. EPA is also proposing to approve revisions to fugitive dust regulations and ordinances for the areas. EPA is proposing to approve these SIP revisions under provisions of the Clean Air Act (CAA) regarding EPA action on SIP submittals, SIPs for national primary and secondary ambient air quality standards, and plan requirements for nonattainment areas.

DATES: Written comments on this proposal must be received by August 29, 2005.

ADDRESSES: Please mail comments to: Dave Jesson (AIR-2), EPA Region IX, 75 Hawthorne Street, San Francisco, CA 94105-3901, or e-mail to jesson.david@epa.gov. The rulemaking docket for this proposal is available for public inspection during normal business hours at EPA's Region IX office. A reasonable fee may be charged for copying parts of the docket.

Copies of the SIP materials are also available for inspection at the following locations:

California Air Resources Board, 1001 I Street, Sacramento, California 95812.

South Coast Air Quality Management District, 21865 E. Copley Drive, Diamond Bar, California 91765.

The 2003 Air Quality Management Plan, which includes the South Coast PM10 plan, is electronically available at: http://www.aqmd.gov/aqmp/AQMD03AQMP.htm.

The 2003 Coachella Valley PM10 State Implementation Plan is at: http://www.aqmd.gov/aqmp/docs/f2003cvsip.pdf.

The fugitive dust rules are electronically available at: http://www.aqmd.gov/rules/rulesreg.html.

FOR FURTHER INFORMATION CONTACT: Dave Jesson, EPA Region IX, at (415) 972-3957, or jesson.david@epa.gov.

SUPPLEMENTARY INFORMATION: Throughout this document, “we,” “us,” and “our” refer to EPA.

Table of Contents

I. Background

A. Summary

B. PM-10 Problem in the South Coast and Coachella Valley

C. CAA Planning Provisions

D. Designation and Classification

E. Adoption and Submittal of these Revisions

II. Evaluation of the SIP Submittals

A. Emission Inventories

B. Control Measures

1. Applicable Requirements

2. Description of South Coast Control Measure Commitments

3. Proposed Action on South Coast Control Measures

C. Regulations and Ordinances

1. Description of Regulations and Ordinances

a. SCAQMD Rule 403—Fugitive Dust

b. SCAQMD Rule 403.1—Supplemental Fugitive Dust Control Requirements for Coachella Valley

c. SCAQMD Rule 1186—PM10 Emissions from Paved and Unpaved Roads, and Livestock Operations

d. Coachella Valley Local Ordinances

2. Proposed Action on Regulations and Ordinances

D. Contingency Measures

E. Reasonable Further Progress (RFP) and Milestones

1. South Coast

2. Coachella Valley

F. Attainment Demonstrations

1. South Coast

2. Coachella Valley

G. Motor Vehicle Emission Budgets

1. South Coast

2. Coachella Valley

III. Summary of EPA's Proposed Action

IV. Administrative Requirements

I. Background

A. Summary

We are proposing to approve 2003 plan amendments for the South Coast Air Basin (or “South Coast”), as the plan amendments pertain to attainment of the 24-hour and annual PM-10 NAAQS.¹ We are proposing to approve revisions to the PM-10 plan for the Coachella Valley Planning Area (“Coachella Valley”).² We are also proposing to approve the plans’ PM-10 motor vehicle emissions budgets for purposes of transportation conformity. Finally, we are proposing to approve revisions to Rules 403, 403.1, and 1186 of the South Coast Air Quality Management District (SCAQMD) regulating fugitive dust emissions, and revisions to fugitive dust ordinances for Coachella Valley jurisdictions. These revisions update, improve, strengthen, and supplement the approved SIP provisions for control of PM-10 and PM-10 precursors in the two areas.

¹ The nonattainment area includes all of Orange County and the more populated portions of Los Angeles, San Bernardino, and Riverside Counties. For a description of the boundaries of the Los Angeles-South Coast Air Basin Area, see 40 CFR 81.305.

² The Coachella Valley Planning Area is in central Riverside County in the Salton Sea Basin. The boundary is defined at 40 CFR 81.305.

B. PM-10 Problem in the South Coast and Coachella Valley

Although great progress has been made in reducing PM-10 concentrations, the South Coast and Coachella Valley continue to violate the PM-10 NAAQS, and the State must therefore adopt, submit, and implement measures and other provisions sufficient to make expeditious progress and attain the NAAQS by the applicable deadline.³

³ The health effects from elevated PM-10 concentrations include lung damage, respiratory and cardio-vascular disease, and premature death. Children, the elderly, and people suffering from heart and lung diseases, such as asthma, are especially at risk.

EPA revised the NAAQS for particulate matter on July 1, 1987 (52 FR 24672), replacing standards for total suspended particulates with new standards applying only to particulate matter up to 10 microns in diameter (PM-10). At that time, EPA established two PM-10 standards. The annual PM-10 standard is attained when the expected annual arithmetic mean of the 24-hour samples averaged over a 3-year period does not exceed 50 micrograms per cubic meter (μg/m³). The 24-hour PM-10 standard of 150 μg/m³ is attained if samples taken for 24-hour periods have no more than one expected exceedance per year, averaged over 3 years. See 40 CFR 50.6 and 40 CFR part 50, appendix K.

On July 18, 1997, EPA reaffirmed the annual PM-10 standard, and slightly revised the 24-hour PM-10 standard (652 FR 38651). In the same action, EPA also established two new standards for PM, both applying only to particulate matter up to 2.5 microns in diameter (PM-2.5).

This SIP submittal addresses the 24-hour and annual PM-10 standards as originally promulgated. An opinion issued by the U.S. Court of Appeals for the D.C. Circuit in American Trucking Assoc., Inc., et al. v. USEPA, No. 97-1440 (May 14, 1999), among other things, vacated the 1997 standards for PM-10. However, the PM-10 standards promulgated on July 1, 1987 were not an issue in this litigation, and the Court's decision does not affect the applicability of those standards in the South Coast and Coachella Valley areas. Codification of those standards continues to be recorded at 40 CFR 50.6. See also 69 FR 45592, July 30, 2004.

The SCAQMD has adopted and the State has submitted PM-10 attainment plans and regulations for these two areas in past years. In 2003, we fully approved PM-10 progress and attainment plans for the South Coast and Coachella Valley as meeting all CAA requirements for serious PM-10 areas, and as part of those actions we also granted attainment date extensions for the areas for both the 24-hour and annual PM-10 NAAQS, from December 31, 2001 to December 31, 2006, pursuant to CAA section 188(e). For more information on the currently approved South Coast and Coachella Valley PM-10 plans (“2002 SIPs”), please see our proposed and final rulemaking notices. The proposals were issued on December 17, 2002 (67 FR 77212 and 67 FR 77204) and the final approvals were issued on April 18, 2003 (68 FR 19316 and 68 FR 19318). We have also previously approved SCAQMD fugitive dust regulations and Coachella Valley local ordinances for the control of fugitive dust. See approvals of SCAQMD Rules 403, 403.1, and 1186, and 10 Coachella Valley ordinances published on December 9, 1998 (63 FR 67784), and again on February 17, 2000 (65 FR 8057), following SCAQMD adoption of amendments strengthening Rules 403 and 1186. This proposed action simply addresses updates and improvements to the 2002 SIPs for the South Coast and Coachella Valley, the SCAQMD fugitive dust regulations, and the Coachella Valley ordinances, adopted as part of the attainment plans for the South Coast and Coachella Valley.

C. CAA Planning Provisions

The Federal CAA was substantially amended in 1990 to establish new planning requirements and attainment deadlines for the NAAQS. The most fundamental of these nonattainment area provisions applicable to the South Coast and Coachella Valley is the requirement that the State submit a SIP demonstrating attainment of the PM-10 NAAQS. This demonstration must be based upon enforceable measures to achieve emission reductions leading to emissions at or below the level predicted to result in attainment of the NAAQS throughout the nonattainment area. The measures must meet the standard for Best Available Control Measures (BACM), and the measures must be implemented expeditiously and ensure attainment no later than the applicable CAA deadline. CAA section 189(b). Because the State requested an extension of the attainment date for the South Coast and Coachella Valley beyond the applicable deadline of December 31, 2001, under CAA section 188(e) the State must demonstrate that the plans include the most stringent measures (MSM) that are included in any implementation plan or are achieved in practice, and can feasibly be implemented in the area.

EPA has issued a “General Preamble” describing the Agency's preliminary views on how EPA intends to act on SIPs submitted under Title I of the Act. See 57 FR 13498 (April 16, 1992), 57 FR 18070 (April 28, 1992). EPA later issued an Addendum to the General Preamble providing guidance on SIP requirements for serious PM-10 areas. 59 FR 41998 (August 16, 1994). The reader should refer to these documents for a more detailed discussion of EPA's preliminary interpretations of Title I requirements. In this proposed rulemaking action, EPA applies these policies to the South Coast and Coachella Valley PM-10 SIP submittals, taking into consideration the specific factual issues presented.

D. Designation and Classification

On the date of enactment of the 1990 CAA Amendments, PM-10 areas, including the South Coast and Coachella Valley, meeting the qualifications of section 107(d)(4)(B) of the amended Act, were designated nonattainment by operation of law. See 56 FR 11101 (March 15, 1991).

Once an area is designated nonattainment, section 188 of the CAA outlines the process for classification of the area and establishes the area's attainment date. In accordance with section 188(a), at the time of designation, all PM-10 nonattainment areas, including the South Coast and Coachella Valley, were initially classified as moderate by operation of law. Section 188(b)(1) of the Act further provides that moderate areas can subsequently be reclassified as serious before the applicable moderate area attainment date if at any time EPA determines that the area cannot “practicably” attain the PM-10 NAAQS by this attainment date.

EPA determined on January 8, 1993, that the South Coast and Coachella Valley could not practicably attain the PM-10 NAAQS by the applicable attainment deadline for moderate areas (December 31, 1994, per section 188(c)(1) of the Act), and reclassified the area as serious (58 FR 3334). In accordance with section 189(b)(2) of the Act, the State was required to make the following SIP submittals. First, the State had to submit by August 8, 1994, a SIP to ensure the implementation of BACM no later than 4 years after reclassification, as required by CAA section 189(b)(1)(B). Second, the State had to submit a SIP by February 8, 1997, providing for progress and expeditious attainment, as required by CAA section 189(b)(1)(A).

E. Adoption and Submittal of These Revisions

For a description of the history and content of the 2002 SIPs, rules, and ordinances for the South Coast and Coachella Valley, please see our proposed and final rules cited above. On August 1, 2003, the SCAQMD adopted the 2003 South Coast Air Quality Management Plan (“2003 South Coast AQMP”) and the 2003 Coachella Valley PM10 State Implementation Plan (“2003 Coachella Valley Plan”), including the motor vehicle emissions budgets for the areas.⁴ The California Air Resources Board (CARB) approved the plans on October 23, 2003, and submitted the plans to us on January 9, 2004. We determined that these submittals were complete on February 18, 2004, pursuant to CAA section 110(k)(1)(B) and 40 CFR part 51, Appendix V.

⁴ In addition to PM-10, the 2003 South Coast AQMP addressed the NAAQS for carbon monoxide (CO), ozone, and nitrogen dioxide (NO2). We will take separate action on the plan with respect to these standards.

On April 2, 2004, the SCAQMD adopted revisions to Rules 403, 403.1, and 1186, and CARB submitted the revisions on July 29, 2004. On August 10, 2004, we determined the submittal to be complete. On November 16, 2004, CARB submitted revised Coachella Valley ordinances, which were adopted by the local jurisdictions on various dates in 2003 and 2004, and the implementation handbooks for Rules 403 and 403.1, which were inadvertently omitted from the April 2, 2004 SIP submittal. On April 6, 2005, we determined the submittal to be complete.

Both the SCAQMD and CARB satisfied applicable statutory and regulatory requirements for reasonable public notice and hearing prior to adoption of the SIP revisions. The SCAQMD conducted numerous public workshops, and properly noticed the public hearings at which the plans and rules were adopted. The SIP submittals include proof of publication for notices of the public hearings. The local Coachella Valley jurisdictions properly noticed and adopted the fugitive dust ordinances. Therefore, we conclude that the SIP submittals have met the public notice and involvement requirements of section 110(a)(1) of the CAA.

II. Evaluation of the SIP Submittals

A. Emission Inventories

CAA section 172(c)(3) requires that all nonattainment area plan submittals include a comprehensive, accurate, and current inventory of actual emissions from all sources in the area.

The emission inventories in the 2003 South Coast AQMP and the 2003 Coachella Valley Plan supersede those in the 2002 SIPs for these areas. The revised 2003 South Coast AQMP includes summary emission inventories for major source categories in tons per annual average day for VOC, NOX, CO, SOX, TSP, PM-10, and PM-2.5 for the 1997 base year (Table 3-1A) and the 2006 attainment year (Table 3-3A). Appendix III (Base and Future Year Emission Inventories) to the 2003 South Coast AQMP provides more detailed emissions inventories for 1995, 1997, 2000, 2002, 2003, 2005, 2006, and various later years. Appendix IV-A also includes additional emissions data, including control category baseline emissions for 1997, 2006, and 2010, and estimates of baseline emissions and emission reductions from each of the 2003 South Coast AQMP control measures for 2006 and 2010 for primary PM-10 or PM-10 precursors (NOX, SOX, VOC, and ammonia), as applicable to the measure. Appendix III documents the source of the data and references SCAQMD and CARB reports that provide detailed information on the methodologies used to estimate emissions from area sources. Finally, Appendix V (Modeling and Attainment Demonstrations) includes estimated average annual day emission reductions by control measure for PM-10, VOC, NOX, and SOX in 2006 in the South Coast.

The 2003 Coachella Valley Plan includes annual average and maximum 24-hour emission inventories for 1995 (Table 2-2), 2000 (Table 2-3), 2003 (Table 2-4), and 2006 (Table 2-5).

The principal emissions inventory enhancements of the revised plans are the use of more accurate emissions factors and models and updated activity levels for emissions associated with mobile sources, including: (1) The use of the latest EPA-approved California motor vehicle emissions factor model (EMFAC2002) ⁵ and the most recent motor vehicle activity data from the Southern California Association of Governments (SCAG); (2) an improved methodology for estimating paved road dust emissions ⁶; and (3) CARB's new nonroad mobile source model (the OFFROAD model). The emission inventories for the South Coast Air Basin also use the results of special studies of aircraft, marine vessels, composting, and ammonia emissions (see Appendix III of the 2003 South Coast AQMP, pages III-1-13 to III-1-14), and more accurate emissions factors for the windblown dust category, based on use of climate, wind speed, and soil data representative of Southern California.

⁵ We approved use of EMFAC2002 on April 1, 2003 (68 FR 15722) for use in SIPs and conformity analyses. EMFAC2002 produces California-specific emissions for the full range of motor vehicles.

⁶ We recently approved this methodology as part of our adequacy determination for the motor vehicle emissions budgets in the revised South Coast and Coachella Valley PM-10 plans. See 58 FR 15326, March 25, 2004. The methodologies are discussed on page III-1-12 of Appendix III of the 2003 South Coast AQMP.

The emission inventories in the 2003 South Coast AQMP and 2003 Coachella Valley Plan are complete with respect to sources that have been found to contribute to PM-10 violations. The inventories employ activity levels, emission factors, and growth projections that are current and reflective of the best available emissions information.

Because they are current, accurate, and complete, we propose to approve as meeting the provisions of CAA section 172(c)(3) the South Coast emission inventories in Chapter 3 (Tables 3-1A and 3-3A), Appendix III (Tables A-1, A-2, A-3, A-5, and A-7), and Appendix V of the 2003 South Coast AQMP (Attachment 4), and the Coachella Valley emission inventories in Tables 2-2, 2-3, 2-4, and 2-5 of the 2003 Coachella Valley Plan.

B. Control Measures

We recently approved the control measure portions of the 2002 SIPs for the South Coast and Coachella Valley. The 2003 South Coast AQMP makes minor modifications to the previously approved SCAQMD commitments to adopt control measures. Although the 2003 South Coast AQMP includes changes to the control measure commitments by CARB and SCAG, these new and amended commitments apply only to the ozone portion of the plan, and therefore are not part of this proposed action. The 2003 Coachella Valley Plan includes no changes to the control measure commitments in the 2002 SIP.

1. Applicable Requirements

Because the South Coast Air Basin and Coachella Valley are classified as serious for PM-10, the nonattainment plans for these areas must include measures that reflect a BACM level of control for each source category that contributes significantly to a violation of the 24-hour or annual PM-10 NAAQS.⁷ For a discussion of the BACM and MSM provisions applicable to these areas and our determination that the 2002 SIPs for the South Coast and Coachella Valley fully met these requirements, see the discussion in the proposed approval of the plans at 67 FR 77215 and 67 FR 77207 (December 17, 2002).⁸

⁷ The plans must also satisfy lesser control measure provisions applicable to moderate areas, Reasonably Available Control Measures (RACM) for areas sources such as fugitive dust, and Reasonably Available Control Technology (RACT) for stationary sources such as commercial and industrial operations. In approving the 2002 SIPs, we did not make an independent assessment of the plans' control measures against the RACM and RACT requirements, since the plans would meet RACM and RACT requirements if they were found to meet the BACM requirement.

⁸ Our final rules on the 2002 SIPs included our determination that the CAA provisions relating to BACM (section 189(b)(1)(B)) and MSM (section 188(e)) were fully met by the South Coast and Coachella Valley control measures, which consisted of: (1) Enforceable commitments to adopt and implement regulations; and (2) fully adopted regulations and ordinances, including those fugitive dust rules and ordinances we had previously approved (SCAQMD Rules 403, 403.1, and 1186, and Coachella Valley fugitive dust ordinances). See 68 FR 19316 and 68 FR 19318 in the final rules.

In the 2002 SIPs for the South Coast and Coachella Valley, SCAQMD determined which source categories are “significant,” as part of the BACM analysis.⁹ Please refer to 67 FR 77215-6 and 67 FR 77207-9 (December 17, 2002) for a summary of the BACM determinations of significant categories in the 2002 SIPs for South Coast and Coachella Valley. Updates to the emissions inventories in the 2003 South Coast AQMP and the 2003 Coachella Valley Plan did not change the determinations of significant source categories in the 2002 SIPs. As a result, the revised plans continue the prior determinations of applicable BACM, which we approved in our April 18, 2003 final rule (see 68 FR 19316, and 68 FR 19318). The revised plans, rules, and ordinances strengthen the 2002 SIPs' control requirements for primary PM and (in the case of the South Coast) the applicable secondary precursors. Therefore, these plan updates also do not recreate the 2002 SIPs' demonstrations, pursuant to CAA section 188(e), that the plans include the most stringent measures.¹⁰

⁹ By analogy to Title I Part C of the Clean Air Act relating to Prevention of Significant Deterioration (PSD), EPA interprets BACM for serious PM-10 areas as generally similar to the definition of Best Available Control Technology (BACT) for the PSD program. PM-10 BACM is therefore defined as “the maximum degree of emissions reduction of PM-10 and PM-10 precursors from a source * * * which is determined on a case-by-case basis, taking into account energy, environmental, and economic impacts and other costs, to be achievable for such source through application of production processes and available methods, systems, and techniques for control of each such pollutant.” General Preamble Addendum, 59 FR 42010 (August 16, 1994).

EPA exempts from the BACM requirement de minimis source categories, which do not contribute significantly to nonattainment. EPA has generally relied on the criteria applied under the new source permit programs (40 CFR 51.165(b)) and has therefore presumed that a source category contributes significantly to a violation of the 24-hour NAAQS if its impact at the location of expected violation would exceed 5 μg/m³, and would contribute significantly to a violation of the annual NAAQS if its impact at the time and location of the expected violation would exceed 1 μg/m³. 59 FR 42011. However, states must also review the potential to attain earlier through application of controls on anthropogenic sources below these general levels.

¹⁰ SCAQMD did, as part of the plan update, review control measures to confirm that the District's measures and commitments continue to reflect the best and most stringent control level. See discussions of each control measure in Appendix IV-A, which summarizes the results of the District's survey of available control technologies and techniques, and provides extensive documentation and references to support the proposed control.

Finally, the control measures in the serious area plans must be sufficient to achieve expeditious attainment by the applicable deadline. As discussed below, the revised SIPs update and improve the progress and attainment provisions in the 2002 SIPs, and we propose to conclude that the plans, as revised, continue to meet the requirements of CAA sections 189(c) and 189(b)(1)(A) for reasonable further progress and expeditious attainment of the PM-10 NAAQS.

2. Description of South Coast Control Measure Commitments

The South Coast 2003 AQMP relies heavily on existing, fully adopted SCAQMD regulations to reduce primary PM-10 and secondary precursors as needed to bring the area into attainment of the 24-hour and annual PM-10 NAAQS. The secondary precursors in the South Coast are NOX and, to a lesser extent, SOX, VOC, and ammonia (NH3). The majority of these control measures have been approved in prior actions on SCAQMD regulations submitted over the years.¹¹

¹¹ See, for example, our approval of the 1997 ozone plan and that plan's NOX and VOC control measure commitments, as amended in 1999 (65 FR 6091, February 8, 2000; 65 FR 18903, April 10, 2000). We have approved the District's NOX and VOC regulations in separate rulemaking over the years. You may see copies of the approved rules at: http://www.epa.gov/region09/air/sips/.

Although existing controls on primary PM-10 and secondary PM-10 precursors achieve the overwhelming majority of reductions necessary for attainment, it is still necessary to adopt new regulations or strengthen existing regulations in order to deliver the small additional amount of reductions needed for attainment of the PM-10 NAAQS in the South Coast. The SCAQMD's commitment to adopt new or strengthened regulations in the 2003 South Coast AQMP is described at length in Chapter 4 and in Appendix IV-A (District's Stationary and Mobile Source Control Measures).

Table 1 below, entitled “South Coast PM-10 Control Measures,” lists the target primary PM-10, NH3, VOC, and SOX emission reductions from each control measure commitment included in the plan. Certain new SCAQMD control measures in the South Coast 2003 AQMP are intended to reduce NOX emissions, but the NOX emission reductions from these measures by 2006 are relatively small and therefore the new NOX measures and reductions are not included in Table 1.

Appendix IV-A provides extensive history of the control measures, including evolution of the measures over time and progress on the measures since the 2002 SIP. Appendix IV-A also documents the costs of implementation, discusses technological feasibility issues, explains the schedule for expeditious implementation, and examines other factors as part of a comprehensive rationale for the measures.¹²

¹² Although the 2003 South Coast AQMP includes new and revised State control measures in Appendix IV-B (Proposed 2003 State and Federal Strategy for the California State Implementation Plan) and new regional transportation strategies in Appendix IV-C (Regional Transportation Strategy & Control Measures), these control measures are not part of the revised PM-10 portion of the plan since they are primarily designed to contribute emission reductions needed for attainment of the 1-hour ozone NAAQS by 2010. We intend to rule on these measures when we act on the ozone portion of the South Coast 2003 AQMP.

Table 1.—South Coast PM-10 Control Measures
[Source: South Coast 2003 AQMP, Appendix IV-A]
Control measure number | Control measure title | 2006 reduction target in tons per day
Remaining 2002 SIP Control Measures
CMB-07 | Emission Reductions from Petroleum Refinery Flares (SOX) | 2.1
CMB-09 ¹ | Petroleum Refinery Fluid Catalytic Cracking Units (PM-10, NH3) | 0.1, 0
WST-01 ¹ | Emission Reductions from Livestock Waste (VOC, NH3) | 4.2, 8.7
WST-02 ¹ | Emission Reductions from Composting (VOC, NH3) | 1.2, 1.9
PRC-03 (P2) | Emission Reductions from Restaurant Operations (PM-10) | 0.2
New Control Measures
BCM-07 ¹ | Further PM10 Reductions from Fugitive Dust Sources (PM-10) | TBD
BCM-08 ¹ | Further Emission Reductions from Aggregate and Cement Manufacturing Operations (PM-10) | 0.6
MSC-04 | Miscellaneous Ammonia Sources (NH3) | TBD
MSC-06 | Wood-Burning Fireplaces and Wood Stoves (PM-10) | TBD
TCB-01 ² | Transportation Conformity Backstop Measure (PM-10) | 0
¹ These measures have already been adopted by SCAQMD. Revisions to Rules 403 and 1186 fulfill BCM-07; new Rule 1127 (Emission Reductions from Livestock Waste, adopted 8/6/04) addresses WST-01; new Rule 1133.2 (Emission Reductions from Co-Composting Operations, adopted 1/10/03) responds to WST-02 commitments; new Rule 1105.1 (Reduction of PM10 and Ammonia Emissions from Fluid Catalytic Cracking Units, adopted 11/7/03) meets the CMB-09 commitment; and new Rule 1157 (PM10 Emissions Reductions from Aggregate and Related Operations, adopted 1/07/05) fulfills the BCM-08 commitment.
² This measure, which is intended to achieve reductions in PM-10 after the 2006 attainment date, is discussed below and in Section II.G., Motor Vehicle Emission Budgets.

Table 2 below, entitled “South Coast Emission Reduction Commitments,” presents the enforceable SCAQMD commitments to adopt and implement measures by specific dates to achieve particular emission reductions. This table is derived from Table 4-8A in the South Coast 2003 AQMP, and includes the commitments for the remaining 3 years of the South Coast PM-10 attainment demonstration.

Table 2.—South Coast Emission Reduction Commitments Commitments To Adopt and Implement New Measures To Achieve Emission Reductions in Tons per Day From 2010 Planning Inventory
[Source: South Coast 2003 AQMP, Table 4-8A]
Year | VOC: Adopt | VOC: Impl | PM-10: Adopt | PM-10: Impl | NOX: Adopt | NOX: Impl | SOX: Adopt | SOX: Impl
2004 | 2.0 | 0 | 1.7 | 0 | 3.0 | 0 | 2.1 | 0
2005 | 2.0 | 0 | 0 | 0.16 | 2.1 | 0 | 0 | 2.1
2006 | 0 | 4.8 | 0 | 0.86 | 0 | 0 | 0 | 0

The emission reduction targets shown in Table 1 and the emission reduction commitments shown in Table 2 are intended to update and replace those in the 2002 SIP, reflecting recent progress in the development of the measures.¹³

¹³ SCAQMD has now adopted regulations fulfilling the following commitments in the 2002 SIP: BCM-01, BCM-03, BCM-04, BCM-06, BCM-08, CMB-09, PRC-01, WST-01, and WST-02. It should be noted that the NOX reductions from the committal measures in the South Coast 2003 AQMP, as displayed in Table 2, are not relied on for progress or attainment, but will contribute to maintenance of the PM-10 NAAQS in the period after 2006.

The 2003 South Coast AQMP includes one measure applicable to the post-2006 period. In order to ensure that growth in transportation related emissions in future years does not jeopardize continued attainment of the PM-10 NAAQS, SCAQMD adopted TCB-01—Transportation Conformity Budget Backstop Measure. This measure consists of a commitment to adopt further PM-10 controls no later than 2019 to achieve as much as 9 tons per day of additional PM-10 emission reductions by 2020, and to adopt still more PM-10 controls no later than 2029 to achieve as much as 16 tons per day of additional PM-10 emission reductions by 2030. Under the measure, SCAQMD will be responsible for implementing further fugitive dust rules and SCAG will be responsible for developing and achieving additional emission reductions from the Regional Transportation Plan and Transportation Control Measures. Further details on this committal measure may be found in Appendix IV-A, pages IV-119 through IV-121.

3. Proposed Action on South Coast Control Measures

Inasmuch as the South Coast 2003 AQMP presents minor updates, refinements, and enhancements of the South Coast control measures in the 2002 SIP, we propose to approve them under CAA section 110(k)(3), as meeting the requirements of CAA sections 110(a), 188(e), and 189(b)(1)(B), and remaining consistent with attainment as expeditiously as practicable. We are proposing to approve each of the control measure commitments in Table 1 and the overall SCAQMD commitment in Table 2 to adopt and implement rules by specified dates to achieve particular emission reductions. We propose that these updated commitments supersede and replace the commitments for the same measures in the 2002 SIP for the South Coast.¹⁴

¹⁴ The previously approved commitments for these measures are shown in Table 1 of our proposed action on the 2002 SIP for PM-10 (67 FR 77216, December 17, 2002) and, for secondary precursors to PM-10, in Table 2 of our proposed action on the ozone SIP (65 FR 6096, February 8, 2000; final rule 65 FR 18903, April 10, 2000). It should be noted that the 2003 South Coast AQMP uses updated baseline and projected emissions inventories and control factors, and so the emission reductions targets in this new plan are calculated using different currencies from the approved ozone and PM-10 SIPs. Moreover, the 2003 South Coast AQMP committal measures reflect in the baseline and projected emissions inventories all reductions that have already been accomplished by SCAQMD regulations adopted subsequent to the submittal of the earlier SIPs.

Commitments approved by EPA under CAA section 110(k)(3) are enforceable by EPA and citizens under CAA sections 113 and 304, respectively. In the past, we have approved enforceable commitments and courts have enforced those actions against states that failed to comply with their commitments. For further discussion and citation, please see 69 FR 5427 (February 4, 2004) and 69 FR 30029 (May 26, 2004).

We consider 3 factors in determining whether to approve enforceable commitments: (a) Whether the commitment addresses a limited portion of the statutorily-required program; (b) whether the state is capable of fulfilling its commitment; and (c) whether the commitment is for a reasonable and appropriate period of time. In the case of this update to the 2002 SIP for the South Coast, the number of commitments and the associated emission reductions are considerably reduced, because of continued successful SCAQMD rule adoption, leaving relatively few reductions to be accomplished in future, as shown in Table 2. The commitments represent a small percent of the required emission reductions from the 1997 base year. For example, the NOX commitments are not required for attainment but rather contribute toward post-2006 maintenance of the PM-10 NAAQS, and the VOC commitments are 1.0% of the VOC emission reductions achieved from the 1997 base year through the 2006 attainment year. The SCAQMD has demonstrated its diligence in fulfilling commitments generally and, in the case of the commitments in this plan, the SCAQMD had adopted in regulatory form 5 of the 10 commitments by August 2004, including all the most significant PM-10 measures. We believe that the schedule for adopting and implementing the measures is for a reasonable and appropriate period of time, given the complex and challenging nature of the control measures. Finally, the adoption and implementation schedule in the commitments is consistent with the SCAQMD's ability to make expeditious progress toward attainment of the standards.

As noted above, the 2003 Coachella Valley Plan contains no new control measure commitments, but relies on the adopted revisions to Rules 403 and 403.1 and the local ordinances.

C. Regulations and Ordinances

The principal fugitive dust regulations in the South Coast and Coachella Valley are two SCAQMD rules: Rule 403—“Fugitive Dust” and Rule 1186—“PM10 Emissions from Paved and Unpaved Roads and Livestock Operations.” Attainment of the PM-10 NAAQS in Coachella Valley also depends on emission reductions from SCAQMD Rule 403.1—“Supplemental Fugitive Dust Control Requirements for Coachella Valley Sources” and fugitive dust control ordinances adopted by Riverside County and 9 cities within the Coachella Valley. Attainment of the PM-10 NAAQS in the South Coast also requires NH3 and VOC reductions from livestock waste operations, and SCAQMD adopted on August 6, 2004, a new SCAQMD Rule 1127—“Emission Reductions from Livestock Waste” to accomplish these reductions.¹⁵

¹⁵ On July 21, 2004 (69 FR 43518), we approved new SCAQMD Rules 1133, 1133.1, and 1133.2, adopted on January 10, 2003, establishing VOC and NH3 controls on composting operations. We intend to act on Rule 1127 in separate rulemaking, once the rule is submitted. These rules contribute reductions required as part of the South Coast PM-10 NAAQS attainment demonstration.

In this action, we are proposing to approve recently adopted amendments strengthening Rules 403, 403.1, and 1186, and more stringent fugitive dust control ordinances adopted by the 10 Coachella Valley jurisdictions. These regulations and ordinances were adopted in fulfillment of emission reduction commitments in the 2002 SIPs for the South Coast and Coachella, and in the 2003 South Coast AQMP.

The docket for this rulemaking includes the complete SIP submittal package, including the current rule text, strike-out/underline rule text highlighting rule amendments, and the SCAQMD Staff Report, which provides information on the regulatory background, rule purpose and applicability, affected sources, legal authority, changes in the rules and implementation handbooks, estimation of emissions and emission reductions, cost and cost-effectiveness estimates, and summary of public comments and SCAQMD response. The Staff Report and supplementary materials on revised Rules 403, 403.1, and 1186 may also be found at: http://www.aqmd.gov/hb/2004/040438a.html.

1. Description of Regulations and Ordinances

a. SCAQMD Rule 403—Fugitive Dust

Rule 403 applies to any land use or activity that has the potential to generate fugitive dust, including construction and agricultural activities. SCAQMD originally adopted Rule 403 in 1976, and amended the rule in 1992, 1993, 1997, and 1998. On February 17, 2000 (65 FR 8057), we approved Rule 403, including its two handbooks (“Rule 403 Implementation Handbook” and “Rule 403 Agricultural Handbook”), as the rule was last amended in 1998.

On April 2, 2004, the SCAQMD again adopted strengthening and clarifying amendments to the rule and handbooks, and adopted an additional handbook—“Rule 403 Coachella Valley Agricultural Handbook.” The more significant changes include: Lowering the threshold for construction projects subject to additional requirements for large operations and strengthening those notification and control requirements; requiring construction sites greater than 5 acres to install track-out control devices; identifying conservation practices for Coachella Valley crop producers seeking a Rule 403 exemption; tightening provisions relating to weed abatement; and adding numerous provisions to clarify the rule and improve its enforceability.

CARB and SCAQMD requested that we not approve into the SIP the revised rule provision (h), relating to Ambient Air Analysis Fees.¹⁶ In the same correspondence, CARB and SCAQMD asked that we approve only the following sections of the revised 403 Implementation Handbook, which is incorporated into the rule: (1) Chapter 5—Guidance for Large Operations; (2) Chapter 7—Test Methods; and (3) Chapter 8—On-Site Monitoring. SCAQMD asked that we approve the entire Rule 403 Coachella Valley Agricultural Handbook, just as we have previously approved the entire 403 Agricultural Handbook applicable to the South Coast area (65 FR 8057).¹⁷

¹⁶ Letter from Michael Scheible, CARB, to Wayne Nastri, USEPA, dated November 16, 2004, and letter from Elaine Chang, SCAQMD, to Dave Jesson, USEPA, dated September 17, 2004.

¹⁷ Letter from Elaine Chang, SCAQMD, to Bob Fletcher, ARB, dated August 18, 2004.

b. SCAQMD Rule 403.1—Supplemental Fugitive Dust Control Requirements for Coachella Valley

SCAQMD Rule 403.1 applies to any land use or activity within the Coachella Valley that has the potential to generate fugitive dust, including construction activities.¹⁸ The rule includes especially stringent provisions for implementation when wind speeds exceed 25 miles per hour, and the rule also serves as a backstop for local jurisdictions' enforcement of their fugitive dust ordinances. SCAQMD originally adopted Rule 403.1 in 1993, and amended the rule in 2000. On December 9, 1998 (63 FR 67784), we approved Rule 403.1, including the “403.1 Implementation Handbook,” as originally adopted in 1993.

¹⁸ Rule 403.1 was originally titled “Wind Entrainment of Fugitive Dust.” The amendment adopted this year includes a change in the rule's title to “Supplemental Fugitive Dust Control Requirements for Coachella Valley.”

On April 2, 2004, the SCAQMD adopted strengthening and clarifying amendments to the rule and “Rule 403.1 Implementation Handbook.” The more significant changes include: more stringent soil stabilization requirements for inactive construction sites; addition of a requirement that sources not subject to a local dust control ordinance submit a fugitive dust control plan to SCAQMD; and numerous provisions clarifying the rule and improving its enforceability.

CARB and SCAQMD requested that we not approve into the SIP the revised rule provision (j), relating to Fees.¹⁹ SCAQMD also asked that we approve only the following sections of the revised “Rule 403.1 Implementation Handbook,” which is incorporated into the rule: (1) Chapter 2—Coachella Valley Wind Monitoring; (2) Chapter 3—On-Site Wind Monitoring Equipment; (3) Chapter 4—Fugitive Dust Control Plan Guidance; and (4) Chapter 7—Test Methods.²⁰

¹⁹ Letter from Michael Scheible, CARB, to Wayne Nastri, USEPA, dated November 16, 2004, and letter from Elaine Chang, SCAQMD, to Dave Jesson, USEPA, dated September 17, 2004.

²⁰ Letter from Elaine Chang, SCAQMD, to Bob Fletcher, ARB, dated August 18, 2004.

c. SCAQMD Rule 1186—PM10 Emissions From Paved and Unpaved Roads, and Livestock Operations

SCAQMD Rule 1186 establishes controls to reduce dust from traffic on paved and unpaved roads, from hay grinding activities, and from access connections and feed lane at livestock operations. The rule includes requirements for purchase of PM10 efficient street sweepers; removal of material on roadways; curbing; treatment of medians; and paving, stabilization, and/or speed restrictions for unpaved roads. SCAQMD originally adopted Rule 1186 in 1997, and amended the rule in 1998, and 1999. On February 17, 2000 (65 FR 8057), we approved Rule 1186 as it was last amended in 1998.

On April 2, 2004, the SCAQMD adopted strengthening and clarifying amendments to the rule. The more significant changes include: extending street cleaning requirements to Coachella Valley and implementing requirements for improved road shoulders.

d. Coachella Valley Local Ordinances

On February 16, 1995, the State submitted for SIP approval the following fugitive dust ordinances adopted by the following Coachella Valley jurisdictions on the dates shown in parentheses: City of Cathedral City Ordinance No. 377 (2/18/93), City of Coachella Ordinance No. 715 (10/6/93), City of Desert Hot Springs Ordinance No. 93-2 (5/18/93), City of Indian Wells Ordinance No. 313 (2/4/93), City of Indio Ordinance No. 1138 (3/17/93), City of La Quinta Ordinance No. 219 (12/15/92), City of Palm Desert Ordinance No. 701 (1/14/93), City of Palm Springs Ordinance No. 1439 (4/21/93), City of Rancho Mirage Ordinance No. 575 (8/5/93), and County of Riverside Ordinance No. 742 (1/4/94). On December 9, 1998 (63 FR 67784), we approved all of these ordinances.

These ordinances were based on a model fugitive dust control ordinance developed by the Coachella Valley Association of Governments (CVAG), local governments, and the SCAQMD. The ordinances typically require: (1) Dust control plans for each construction project needing a grading permit; (2) plans to pave or chemically treat unpaved surfaces if daily vehicle trips exceed 150; (3) imposition of 15 mph speed limits for unpaved surfaces if daily vehicle trips do not exceed 150; (4) paving or chemical treatment of unpaved parking lots; and (5) actions to discourage use of unimproved property by off-highway vehicles.

Again working in cooperation with CVAG and SCAQMD, all of the jurisdictions recently developed a more stringent model ordinance and then adopted new replacement ordinances based on the model. The revised ordinances improve in numerous ways the effectiveness of controls on construction emissions and enhance the jurisdictions' various programs for reducing reentrained dust emissions.

On November 16, 2004, CARB submitted the following new and improved ordinances as replacements for the previously approved SIP provisions: City of Cathedral City Ordinance No. 583 (adopted 1/14/04), City of Coachella Ordinance No. 896 (10/8/03), City of Desert Hot Springs Ordinance No. 2003-16 (10/7/03), City of Indian Wells Ordinance No. 545 (11/6/03), City of Indio Ordinance No. 1357 (12/3/03), City of La Quinta Ordinance No. 391 (12/2/03), City of Palm Desert Ordinance No. 1056 (11/13/03), City of Palm Springs Ordinance No. 1639 (11/5/03), City of Rancho Mirage Ordinances No. 855 (12/18/03) and No. 863 (4/29/04), and County of Riverside Ordinance No. 742.1 (1/13/04).

2. Proposed Action on Regulations and Ordinances

The revisions to Rules 403, 403.1, and 1186 and the Coachella Valley fugitive dust ordinances strengthen the SIP-approved rules and ordinances. The rules and ordinances continue to contain adequate enforcement provisions for ensuring compliance by regulated facilities and the rules deliver emission reductions consistent with the South Coast and Coachella Valley progress and attainment requirements. Prior versions of these rules and ordinances were previously determined to meet the BACM and MSM provisions, and the rules and ordinances, as now strengthened, continue to meet applicable CAA subpart 2 provisions.

As noted above, the SCAQMD has requested that we not approve certain provisions of the rules and accompanying handbooks. With these exceptions, we are proposing to approve SCAQMD Rules 403, 403.1, and 1186, including the rule handbooks (Rule 403 Implementation Handbook, Rule 403 Coachella Valley Agricultural Handbook, and Rule 403.1 Implementation Handbook), as amended on April 2, 2004, and the Coachella Valley fugitive dust ordinances under CAA section 110(k)(3), as submitted on November 16, 2004, as meeting the provisions of CAA sections 110(a), 188(e), and 189(b)(1)(B).

Finally, we are proposing to conclude that the 2003 South Coast AQMP and the 2003 Coachella Valley Plan continue to meet BACM and MSM control measure requirements under CAA sections 188(e) and 189(b)(1)(B), through fully adopted regulations and ordinances and (in the case of the South Coast) a very limited number of near-term commitments to adopt additional measures.

D. Contingency Measures

The CAA requires that the SIP include contingency measures to be implemented if the area fails to meet progress requirements or to attain the NAAQS by the applicable deadline. In response to this provision, the 2003 South Coast AQMP includes two updated contingency measures: CTY-01—Accelerated Implementation of Control Measures, and CTY-14—Emission Reductions from Miscellaneous Sources (Weed Abatement). These measures are discussed at length in Appendix IV-A, Section 2, pages IV-122 through IV-133. CTY-01 includes Table 4 (page IV-126) displaying the scheduled control measures whose implementation could be accelerated as part of the contingency measure implementation. Both measures have the potential to achieve significant further reductions in PM-10 and its precursors and may be implemented quickly to cure a SIP shortfall. Upon final federal approval, these contingency measures would supersede and replace the contingency measures in the 2002 SIP for the South Coast.

In addition to these contingency measures, the 2003 South Coast AQMP projects a level of excess control for years beyond 2006 for NOX and VOC, two of the major secondary precursors to PM-10 in the South Coast. This safety margin is due to the future year benefits of measures already adopted in regulatory form by October 31, 2002, the cutoff date for the inventories in Appendix III, Attachment A. The extent of this cushion, which is primarily the result of fleet turnover to meet the State's stringent mobile source emission standards, is shown below in Table 3—“Emissions of PM-10 Precursors in the South Coast.”

Table 3.—Emissions of PM-10 Precursors in the South Coast
[Emissions are shown in average annual tons per day]
Precursor | 2006 Table A-7 | 2007 Table A-8 | 2008 Table A-9 | 2010 Table A-10
NOX | 950 | 912 | 873 | 780
VOC | 698 | 672 | 658 | 630
Source: 2003 South Coast AQMP, Appendix III, Attachment A.

Assuming that the 2006 levels are consistent with attainment of the PM-10 NAAQS, the declining total basinwide inventory of NOX and VOC show additional reductions beyond those needed to maintain the NAAQS. Thus, for the year 2008, projected emissions of NOX are 77 tpd below the attainment level, and projected emissions of VOC are 40 tpd below the attainment level.

We propose to approve the SCAQMD's contingency measure provisions under CAA section 110(k)(3) as meeting the requirements of CAA section 172(c)(9). Specifically, we are proposing to approve contingency measures CTY-01—Accelerated Implementation of Control Measures, and CTY-04—Control of Emissions from Miscellaneous Sources (Weed Abatement), as set forth in Section 2 of Appendix IV-A to the 2003 South Coast AQMP.

There are no new contingency measures in the 2003 Coachella Valley Plan. Therefore, the contingency provisions in the 2002 SIP for Coachella Valley (see 67 FR 77209) remain applicable.

E. Reasonable Further Progress (RFP) and Milestones

The plans must include quantitative milestones which are to be achieved every 3 years until the areas are redesignated to attainment, and which demonstrate RFP, as defined in CAA section 171(1), until the area reaches attainment. CAA sections 172(c)(2) and 189(c).

1. South Coast

The 2003 South Coast AQMP includes projected levels of controlled emissions, based on fully adopted regulations and enforceable schedules for implementation of the control measure commitments. The resulting emissions levels are shown in Table 4—“South Coast PM-10 Reasonable Further Progress Milestones.” Using the approaches discussed in Section II.F.1 below, the SCAQMD modeled the emissions levels for 2006 to demonstrate that both the 24-hour and annual PM-10 NAAQS will be attained when emissions are reduced to the levels shown for 2006.

Table 4.—South Coast PM-10 Reasonable Further Progress Milestones
[Emissions are shown in average annual tons per day]
Pollutant | 2003 | 2006
PM-10 | 292 | 292
NOX | 1,048 | 935
SOX | 58 | 57
VOC | 804 | 673
Source: 2003 South Coast AQMP, Table 6-1.

We propose to approve this milestone schedule as meeting the requirements of CAA section 189(c), since the schedule reflects expeditious implementation of BACM and expeditious attainment of the 24-hour and annual PM-10 NAAQS. These triennial progress milestones are the principal progress component, but the 2003 South Coast AQMP also provides additional information regarding interim year reductions. See, for example, Table 2 above, Table A-6 of Appendix III, and the 2005 milestone year reduction schedule for the 1-hour ozone component of the plan (Table 6-3b). We therefore propose to conclude that the 2003 South Coast AQMP also meets the RFP provision of CAA section 172(c)(2).

2. Coachella Valley

The 2003 Coachella Valley Plan includes projected levels of controlled emissions, based on fully adopted regulations and enforceable schedules for implementation of the 2002 SIP's control measure commitment. The resulting emissions levels are shown in Table 5—“Coachella Valley PM-10 Reasonable Further Progress Milestones.” Using the approaches discussed in Section II.F.2 below, the SCAQMD modeled the emissions levels for 2006 to demonstrate that both the 24-hour and annual PM-10 NAAQS will be attained when emissions are reduced to the levels shown for 2006.

Table 5.—Coachella Valley PM-10 Reasonable Further Progress Milestones
[PM-10 emissions are shown in average annual tons per day]
2003 | 2006
30.32 | 29.09
Source: 2003 Coachella Valley Plan, Tables 2-9 and 2-7.

We propose to approve this schedule as meeting the RFP and milestone requirements of CAA section 189(c)(1), since the schedule reflects expeditious implementation of BACM and expeditious attainment of the 24-hour and annual PM-10 NAAQS. Specifically, we are proposing to approve the milestone provisions in Tables 2-9 and 2-7 of the 2003 Coachella Valley Plan. Because the reductions needed for attainment between the 2003 and 2006 milestones are small (1.23 tons per day), we believe that interim year reduction estimates are not necessary or meaningful, and we conclude that the plan meets the requirements of CAA section 172(c)(2) relating to RFP.

F. Attainment Demonstration

The plans must provide detailed demonstrations (including air quality modeling) that the specified control strategy will reduce PM-10 emissions so that the standards will be attained as soon as practicable but no later than December 31, 2006. CAA section 189(b)(1)(A). In the case of the South Coast and Coachella Valley, the attainment demonstration must analyze both the 24-hour and annual NAAQS, since the areas have historically violated both NAAQS.

1. South Coast

In the 2003 South Coast AQMP, SCAQMD primarily relied on UAMAERO-LT modeling approach to assess control scenarios and to determine attainment of the PM-10 NAAQS. The 2003 South Coast AQMP also employed linear rollback of speciated particulate at 5 representative sites in the basin.²¹ Finally, a weight-of-evidence (WOE) assessment was used for basin grids where high concentrations were predicted. The inputs and application of the models and the WOE analyses are described in Chapter 2 of Appendix V (Modeling and Attainment Demonstrations) of the 2003 South Coast AQMP.

²¹ Under the District's PM10 Technical Enhancement Program (PTEP), SCAQMD has been measuring speciated particulate matter at the following sites: Anaheim, Diamond Bar, Fontana, Los Angeles, and Rubidoux. Information about the PTEP program may be found in Appendix V to the 1997 South Coast AQMP and 2003 South Coast AQMP.

The modeling results for 1995, 2006, and 2010 are presented in Chapter 5 (Figure 5-1 shows maximum annual concentrations and Figure 5-2 shows maximum 24-hour concentrations), and on pages V-2-49 to V-2-58 of Appendix V. The modeling predicts that the peak annual concentration in 2006 with implementation of controls will be 50 μg/m³, compared to the 50 μg/m³ annual PM-10 NAAQS. The modeling predicts that the peak 24-hour concentration in 2006 with controls will be 150 μg/m³, compared to the 150 μg/m³ 24-hour PM-10 NAAQS.

In contrast to other pollutants, we have not issued detailed modeling guidelines for PM-10, nor have we established minimum performance requirements for PM-10 modeling.²² We have reviewed the SCAQMD's modeling approaches for both primary PM-10 and secondary PM-10, using both receptor modeling and dispersion modeling. We believe that the modeling in the 2003 South Coast AQMP provides a reasonable basis for linking emissions with air quality, for identifying an appropriate control strategy, and for determining whether the strategy delivers attainment for both the 24-hour and annual PM-10 NAAQS.

²² Over the years, EPA has issued some recommendations on PM-10 modeling, including those codified at 40 CFR part 51, appendix W, 7.2.1 and 7.2.2, and those set forth in the PM-10 SIP Development Guideline (USEPA 450/2-860001, 6/87). Although we do not set minimum performance goals or require model performance evaluation for PM-10 modeling, SCAQMD included a performance evaluation for the UAMAERO-LT by grid cell and monitoring site and also a performance evaluation at each of the 5 PTEP sites for sulfate, nitrate, ammonium, organic carbon, elemental carbon, and primary PM-10 (Appendix V, pages V-2-31 to V-2-47).

The SCAQMD's modeling shows that the level of emissions after implementation of the proposed set of control strategies would result in 2006 ambient concentrations within the South Coast in attainment of both the 24-hour and annual PM-10 NAAQS. We therefore conclude that the air quality modeling and attainment demonstration contained in the 2003 South Coast AQMP, Chapter 5 and Appendix V, Chapter 2, are consistent with existing EPA guidance, and we propose to approve the attainment demonstration under CAA section 189(b)(1)(A).

2. Coachella Valley

In the 2003 Coachella Valley Plan as with the 2003 South Coast AQMP, SCAQMD primarily relied on UAMAERO-LT modeling approach to assess control scenarios and to determine attainment of the annual PM-10 NAAQS. The 2003 Coachella Valley Plan also employed linear rollback of each of the significant primary source categories as part of the demonstration of attainment of the 24-hour PM-10 NAAQS. The attainment demonstration is presented in Chapter 3. The predicted peak concentration is 49.6 μg/m³ for the annual NAAQS and 141.6 μg/m³ for the 24-hour NAAQS.²³

²³ The SCAQMD excercised its option to increase the estimated 2006 paved road dust emissions in the attainment demonstration to provide a safety margin in the motor vehicle emissions budget, resulting in predicted maximum concentrations of 50.4 μg/m³ and 144.3 μg/m³ (Table 3-3).

The modeling thus shows that the level of emissions after implementation of the proposed set of control strategies would result in 2006 ambient concentrations within the Coachella Valley in attainment of both the 24-hour and annual PM-10 NAAQS. We therefore conclude that the air quality modeling and attainment demonstration contained in the 2003 Coachella Valley Plan, Chapter 3, are consistent with existing EPA guidance, and we propose to approve the attainment demonstration under CAA section 189(b)(1)(A).

G. Motor Vehicle Emission Budgets

Rate of progress and attainment demonstration submittals must specify the maximum emissions of transportation-related precursors of PM-10 allowed in each milestone year and the attainment year and demonstrate that these emissions levels, when considered with emissions from all other sources, are consistent with RFP and attainment. In order for us to find these emissions levels or “budgets” adequate and approvable, the submittal must meet the conformity adequacy provisions of 40 CFR 93.118(e)(4) and be approvable under all pertinent SIP requirements.

The budgets defined by this and other plans when they are approved into the SIP or, in some cases, when the budgets are found to be adequate, are then used to determine the conformity of transportation plans, programs, and projects to the SIP, as described by CAA section 176(c)(3)(A). For more detail on this part of the conformity requirements, see 40 CFR 93.118. For transportation conformity purposes, the cap on emissions of transportation-related PM-10 precursors is known as the motor vehicle emissions budget. The budget must reflect all of the motor vehicle control measures contained in the attainment demonstration (40 CFR 93.118(e)(4)(v)), and must include PM-10 and PM-10 precursor emissions from the following sources: Motor vehicles, reentrained dust from traffic on paved and unpaved roads, and emissions during construction of highway and rail projects.²⁴

²⁴ The conformity regulations provide that, for purposes of budgets and conformity determinations, the applicable pollutants are bOC, NOx, and PM-10 if the applicable implementation plan establishes a budget for such emissions as part of the RFP, attainment, or maintenance strategy, or EPA has made such a finding. 40 CFR 91.102(b)(2)(111). Thus, although the SCAMQD has set RFP and attainment reductions for SOx, the conformity regulations do not allow for SOx budgets. The conformity regulations require that, in PM-10 areas with SIPs which identify construction-related fugitive PM—10 as a contributor to the nonattainment problem, the PM-10 budget and conformity analysis must include fugitive, PM-10 emissions associated with the construction of highway and transit projects. 40 CFR 93.122(d)(2)

The motor vehicle emissions budgets for the South Coast are presented in Table 6 below, entitled “South Coast PM-10 Plan Motor Vehicle Emissions Budgets,” which is taken from “2003 South Coast AQMP On-Road Motor Vehicle Emissions Budgets,” an attachment to CARB's SIP submittal. The motor vehicle emissions budgets for the Coachella Valley are presented in Table 7 below, entitled “Coachella Valley PM-10 Plan Motor Vehicle Emissions Budgets,” which is taken from “2003 Coachella Valley PM-10 SIP On-Road Motor Vehicle Emissions Budgets,” an attachment to CARB's SIP submittal.

EPA has previously determined that these budgets are adequate (see 69 FR 15325, March 25, 2004), following posting of the budgets on EPA's conformity Web site: http://www.epa.gov/otaq/transp/conform/reg9sips.htm.

Table 6.—South Coast PM-10 Plan Motor Vehicle Emissions Budgets
[Emissions are shown in annual average tons per day]
Year | PM-10 | NOX | VOC
2003 | 168 | 635 | 311
2006 | 166 | 549 | 251

Table 7.—Coachella Valley PM-10 Plan Motor Vehicle Emissions Budgets
[Emissions are shown in annual average tons per day]
Year | PM-10
2003 | 12.3
2006 | 10.9

The 2003 Coachella Valley Plan provides additional information on the budgets in Chapter 2 (pages 2-9 through 2-12) and Chapter 3 (pages 3-3 through 3-4), where the safety margin in the 2006 budgets is explained. In Section II.B.2., we propose to approve committal measure TCB-01—Transportation Conformity Budget Backstop Measure, which is designed to ensure that motor vehicle emissions remain consistent with the South Coast PM-10 budget and continued attainment of the PM-10 NAAQS in the South Coast through the years 2020 and 2030.

As discussed above in Section II.A., Emission Inventories, the motor vehicle emissions portions of these budgets (i.e., the evaporative and tailpipe emissions) were developed using the EMFAC2002 motor vehicle emissions factors, along with activity levels reflecting current information provided by SCAG.

We propose to approve the motor vehicle emission budgets shown in Tables 6 and 7 as consistent with CAA section 176(c)(2)(A) and the adequacy criteria of 40 CFR 93.118(e)(4), including consistency with the baseline emissions inventories, the motor vehicle control measure emission reductions used in the progress and attainment demonstration, and the reductions needed for continued attainment of the standard after the attainment deadline.

III. Summary of EPA's Proposed Action

We are proposing to approve revisions to SCAQMD Rules 403 (except for subdivision h), 403.1 (except for subdivision j), and 1186 regulating fugitive dust emissions; revisions to the implementation handbooks for the rules (Rule 403 Implementation Handbook, Chapters 5, 7, and 8; Rule 403 Coachella Valley Agricultural Handbook; Rule 403.1 Implementation Handbook, Chapters 2, 3, 4, and 7); and revisions to the fugitive dust ordinances for 10 Coachella Valley jurisdictions. These revisions update, improve, strengthen, and supplement the SIP provisions for control of PM-10 and PM-10 precursors in the two areas.

We are proposing to approve 2003 plan amendments to the 2002 SIPs for the South Coast and Coachella Valley serious nonattainment areas, as the plan amendments pertain to CAA provisions applicable to attainment SIPs for the 24-hour and annual PM-10 NAAQS. Specifically, we are proposing to approve under section 110(k)(3) the PM-10 portions of the 2003 South Coast AQMP and the 2003 Coachella Valley Plan with respect to the CAA requirements for emissions inventories under section 172(c)(3); control measures, as meeting the requirements of sections 110(a), 188(e), and 189(b)(1)(B); RFP under section 189(c)(1); contingency measures under section 172(c)(9); demonstration of attainment under section 189(b)(1)(A); and motor vehicle emissions budgets under section 176(c)(2)(A).

We show the proposed plan approvals in Table 8—“Proposed Approvals of South Coast and Coachella Valley PM-10 Attainment Plan Submittals.”

Table 8.—Proposed Approvals of South Coast and Coachella Valley PM-10 Attainment Plan Submittals
CAA section | Provision | Plan citation: South Coast | Plan citation: Coachella Valley
172(c)(3) | Emission Inventories | 2003 South Coast AQMP, Chapter 3 (Tables 3-1A and 3-3A); Appendix III (Tables A-1, A-2, A-3, A-5, and A-7); and Appendix V (Attachment 4) | 2003 Coachella Valley Plan, Tables 2-2, 2-3, 2-4, and 2-5.
110(a), 188(e), and 189(b)(1)(B) | Control Measures | Table 1 (derived from 2003 South Coast AQMP, Appendix IV-A) and Table 2 (derived from 2003 South Coast AQMP, Table 4-8A) | No new measures.
172(c)(2), 189(c)(1) | Reasonable Further Progress | 2003 South Coast AQMP, Table 6-1 | Table 5 (derived from 2003 Coachella Valley Plan, Tables 2-9 and 2-7).
172(c)(9) | Contingency Measures | 2003 South Coast AQMP, Appendix IV-A, Section 2 (CTY-01, CTY-04, TCB-01) | No new measures.
189(b)(1)(A) | Attainment Demonstration | 2003 South Coast AQMP, Chapter 5; Appendix V, Chapter 2 | 2003 Coachella Valley Plan, Chapter 3.
176(c)(2)(A) | Motor Vehicle Emissions Budgets | Table 6 (derived from “2003 South Coast AQMP On-Road Motor Vehicle Emissions Budgets”) | Table 7 (derived from “2003 Coachella Valley PM-10 SIP On-Road Motor Vehicle Emissions Budgets”).

IV. Administrative Requirements

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the National Government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Intergovernmental relations, Nitrogen dioxide, Particulate matter, Reporting and recordkeeping requirements, Volatile organic compounds.

Dated: July 17, 2005.
Wayne Nastri,
Regional Administrator, Region IX.

[FR Doc. 05-14931 Filed 7-27-05; 8:45 am]

BILLING CODE 6560-50-P